DEPARTMENT OF COMMERCE

International Trade Administration

[C-580-877, C-489-823]

Welded Line Pipe From the Republic of Korea and the Republic of Turkey: Postponement of Preliminary Determinations in the Countervailing Duty Investigations

AGENCY: Enforcement and Compliance, International Trade Administration, Department of Commerce.

FOR FURTHER INFORMATION CONTACT: Rebecca Trainor at (202) 482-4007 (Korea) or Elizabeth Eastwood (Turkey) at (202) 482-3874, AD/CVD Operations, Enforcement and Compliance, International Trade Administration, Department of Commerce, 14th Street and Constitution Avenue NW., Washington, DC 20230.

SUPPLEMENTARY INFORMATION:

Background

On November 5, 2014, the Department of Commerce (the Department) initiated the countervailing duty (CVD) investigations of welded line pipe from the Republic of Korea and the Republic of Turkey.¹ Currently, the preliminary determinations are due no later than January 9, 2015.

¹ See Welded Line Pipe From the Republic of Korea and the Republic of Turkey: Initiation of Countervailing Duty Investigations, 79 FR 67419 (November 13, 2014).

Postponement of Due Date for the Preliminary Determinations

Section 703(b)(1) of the Tariff Act of 1930, as amended (the Act), requires the Department to issue the preliminary determination in a CVD investigation within 65 days after the date on which the Department initiated the investigation. However, if the petitioner makes a timely request for a postponement, section 703(c)(1)(A) of the Act allows the Department to postpone making the preliminary determination until no later than 130 days after the date on which the administering authority initiated the investigation.

On December 11, 2014, the petitioners ² in these investigations timely requested that the deadline for the preliminary determination in each of these cases be postponed in accordance with 19 CFR 351.205(e), citing the extraordinarily complicated nature of the cases. Therefore, in accordance with section 703(c)(1)(A) of the Act, we are fully postponing the due date for the preliminary determinations to no later than 130 days after the day on which the investigations were initiated. However, as that date falls on a Sunday (i.e., March 15, 2015), the deadline for completion of the preliminary determinations is now March 16, 2015, the next business day.

² The petitioners are American Cast Iron Pipe Company, EnergexTube (a division of JMC Steel Group), Maverick Tube Corporation, Northwest Pipe Company, Stupp Corporation (a division of Stupp Bros., Inc.), Tex-Tube Company, TMK IPSCO, and Welspun Tubular LLC USA (see December 11, 2014, letters on the record of these investigations).

This notice is issued and published pursuant to section 703(c)(2) of the Act and 19 CFR 351.205(f)(l).

Dated: December 18, 2014.
Ronald K. Lorentzen,
Acting Assistant Secretary for Enforcement and Compliance.

[FR Doc. 2014-30208 Filed 12-23-14; 8:45 am]

BILLING CODE 3510-DS-P